DEPARTMENT OF HOMELAND SECURITY

Coast Guard

[USCG-2004-17768]

Chemical Transportation Advisory Committee

AGENCY: Coast Guard, DHS.

ACTION: Notice of open teleconference meeting.

SUMMARY: This notice announces a teleconference meeting of the Subcommittee of the Chemical Transportation Advisory Committee (CTAC) on the National Fire Protection Association (NFPA) 472 Standard. The NFPA 472 Subcommittee will meet to discuss the formation of a marine emergency responder chapter in NFPA 472, Professional Competence of Responders to Hazardous Materials Incidents. This meeting will be open to the public.

DATES: The teleconference call will take place on Thursday, June 10, 2004, from 9 a.m. to 11 a.m. EST. Written comments may be submitted on or before June 9, 2004.

ADDRESSES: Members of the public may participate by coming to Room 2100, U.S. Coast Guard Headquarters Building, 2100 Second Street, SW., Washington, DC 20593. We request that members of the public who plan to attend this meeting notify LT Matt Barker at 202 267-1217 so that he may notify building security officials. Written comments should be sent to CDR Robert J. Hennessy, Executive Director, CTAC, Commandant (G-MSO-3), 2100 Second Street, SW., Washington DC 20593-0001 or Fax: 202 267-4570. This notice is available on the Internet at http://dms.dot.gov.

FOR FURTHER INFORMATION CONTACT: Commander Robert J. Hennessy, Executive Director of CTAC, or Ms. Sara Ju, Assistant to the Executive Director, telephone 202 267-1217, fax 202 267-4570.

SUPPLEMENTARY INFORMATION: Members of the public may participate by dialing 202 366-3920, Passcode: 5999. Public participation is welcomed; however, the number of teleconference lines is limited and available on a first-come, first-served basis. Notice of this meeting is given under the Federal Advisory Committee Act, 5 U.S.C. App. 2.

Tentative Agenda

(1) Introduction of Subcommittee members and public attendees.

(2) Review of the initiative to incorporate marine specific competencies, for hazardous material incident responders, into the NFPA 472 Standard.

(3) Discussion on draft chapter for future incorporation into the NFPA 472.

(4) Discussion on the formation of Workgroups within the Subcommittee that will be tasked to write specific parts of the draft chapter.

(5) Public comment period.

Public Participation

The Chairman of this NFPA 472 Subcommittee shall conduct the teleconference in a way that will, in his judgment, facilitate the orderly conduct of business. During the teleconference, the Subcommittee welcomes public comment. Members of the public will be heard during the public comment period. The committee will make every effort to hear the views of all interested parties. Please note that the teleconference may close early if all business is finished. Written comments may be submitted on or before the day of the teleconference (see ADDRESSES).

Minutes

The teleconference will be recorded, and a summary will be available for public review and copying in the docket approximately 30 days following the teleconference meeting.

Dated: May 7, 2004.
Joseph J. Angelo,
Director of Standards, Marine Safety, Security and Environmental Protection.

[FR Doc. 04-11146 Filed 5-14-04; 8:45 am]

BILLING CODE 4910-15-P